DEPARTMENT OF THE TREASURY

Office of Foreign Assets Control

31 CFR Part 515

Cuban Assets Control Regulations

AGENCY: Office of Foreign Assets Control, Treasury.

ACTION: Final rule.

SUMMARY: The Department of the Treasury's Office of Foreign Assets Control (OFAC) is amending the Cuban Assets Control Regulations to further implement portions of the President's foreign policy toward Cuba to deny the Cuban regime sources of revenue. Specifically, this rule: Adds a new prohibition for persons subject to U.S. jurisdiction regarding lodging and related transactions at certain properties in Cuba identified on a new list maintained by the State Department, and amends an interpretive provision and several general licenses to incorporate this new prohibition; amends four general licenses to restrict the importation into the United States of Cuban-origin alcohol and tobacco products; amends a general license to remove the authorization for persons subject to U.S. jurisdiction to attend or organize professional meetings or conferences in Cuba; and removes a general license that authorizes persons subject to U.S. jurisdiction to participate in or organize certain public performances, clinics, workshops, other athletic or non-athletic competitions, and exhibitions, and replaces it with a specific licensing policy. OFAC is also making a number of technical and conforming changes.

DATES: This rule is effective September 24, 2020.

FOR FURTHER INFORMATION CONTACT: OFAC: Assistant Director for Licensing, 202-622-2480, Assistant Director for Regulatory Affairs, 202-622-4855, or Assistant Director for Sanctions Compliance & Evaluation, 202-622-2490.

SUPPLEMENTARY INFORMATION:

Electronic Availability

This document and additional information concerning OFAC are available on OFAC's website (www.treasury.gov/ofac).

Background

The Department of the Treasury issued the Cuban Assets Control Regulations, 31 CFR part 515 (the “Regulations”), on July 8, 1963, under various authorities, including the Trading With the Enemy Act (50 U.S.C. 4301-41). OFAC has amended the Regulations on numerous occasions, including to implement National Security Presidential Memorandum-5, “Strengthening the Policy of the United States Toward Cuba,” signed by the President on June 16, 2017, and the President's foreign policy toward Cuba.

Today, OFAC, in consultation with the State Department, is taking additional action to implement the Administration's foreign policy toward Cuba, as set forth in more detail below.

Restrictions on Lodging, Paying for Lodging, or Making Reservations for Lodging, at Certain Properties in Cuba

OFAC is incorporating a new prohibition at § 515.210 of the Regulations to prohibit any person subject to U.S. jurisdiction from lodging, paying for lodging, or making any reservation for or on behalf of a third party to lodge, at any property in Cuba that the Secretary of State has identified as a property that is owned or controlled by the Cuban government, a prohibited official of the Government of Cuba, as defined in § 515.337, a prohibited member of the Cuban Communist Party, as defined in § 515.338, a close relative, as defined in § 515.339, of a prohibited official of the Government of Cuba, or a close relative of a prohibited member of the Cuban Communist Party. Concurrent with this regulatory amendment, the State Department is creating a new list, the Cuba Prohibited Accommodations List (CPA List), to publish the names, addresses, or other identifying details, as relevant, of properties identified as meeting such criteria, as well as the basis for the listing. The CPA List will be maintained by the State Department and published in the Federal Register. It will also be accessible through the following page on the State Department's website: www.state.gov/cuba-sanctions/cuba-prohibited-accommodations.

OFAC is making conforming edits to § 515.421, which provides interpretive guidance with respect to transactions ordinarily incident to a licensed transaction, to incorporate the new prohibition in § 515.210. This interpretive provision provides that any transaction ordinarily incident to a licensed transaction and necessary to give effect thereto is also authorized except in certain scenarios. OFAC is adding a provision at § 515.421(a)(6) to exclude from the scope of the interpretative provision lodging, paying for lodging, or making any reservation for or on behalf of a third party to lodge, at any property on the CPA List to the extent prohibited by § 515.210, where the terms of the applicable general or specific license expressly exclude such transactions.

OFAC is also amending several general licenses in Subpart E of the Regulations to exclude from the scope of such authorizations the lodging, paying for lodging, or making any reservation for or on behalf of a third party to lodge, at any property on the CPA List to the extent prohibited by § 515.210. More specifically, OFAC is amending the following sections to incorporate the exclusion related to § 515.210: (i) In § 515.533, which relates to exportations from the United States to Cuba, reexportations to Cuba, and the importation and servicing or repair of certain items previously exported or reexported to Cuba; (ii) in § 515.545, which relates to transactions involving information and informational materials; (iii) in § 515.559, which relates to certain export and import transactions by U.S.-owned or -controlled foreign firms; (iv) in § 515.560, which relates to travel-related transactions to, from, and within Cuba by persons subject to U.S. jurisdiction; (v) in § 515.561, which relates to family visits; (vi) in § 515.563, which relates to journalistic activity in Cuba; (vii) in § 515.564, which relates to professional research and professional meetings in Cuba; (viii) in § 515.565, which relates to educational activities; (ix) in § 515.566, which relates to religious activities in Cuba; (x) in § 515.567, which relates to certain public performances, clinics, workshops, competitions, and exhibitions in Cuba; (xi) in § 515.572, which relates to the provision of travel, carrier, and other transportation-related, and remittance forwarding services; (xii) in § 515.574, which relates to support for the Cuban people; (xiii) in § 515.575, which relates to humanitarian projects in Cuba; and (xiv) in § 515.576, which relates to activities of private foundations or research or educational institutes. In addition, OFAC is making technical and conforming changes related to these amendments in a number of the above sections.

Restrictions on Importation Into the United States of Cuban-Origin Alcohol and Tobacco Products

OFAC is amending four provisions of the Regulations to restrict the importation into the United States of Cuban-origin alcohol and tobacco products. More specifically, OFAC is amending the following authorizations to exclude the importation into the United States of Cuban-origin alcohol and tobacco products: (i) § 515.560(c)(3), which authorizes the purchase or other acquisition in Cuba and importation as accompanied baggage into the United States of Cuban-origin merchandise for personal use; (ii) § 515.569, which authorizes the importation of merchandise by any person arriving in the United States other than a citizen or resident of the United States, provided the importation is not in commercial quantities and are not imported for resale; (iii) § 515.571(a)(1), which authorizes the importation into the United States of accompanied baggage for personal use by or on behalf of a Cuban national who is present in the United States; and (iv) § 515.585(d), which authorizes the importation into the United States as accompanied baggage certain Cuban-origin goods that are purchased or acquired in a third country for personal use. OFAC is also making technical and conforming changes to § 515.571(a).

Professional Research and Professional Meetings in Cuba

OFAC is eliminating the authorization in § 515.564(a)(2) of the Regulations related to attendance at, or organization of, professional meetings or conferences in Cuba. Persons subject to U.S. jurisdiction are no longer authorized via general license to attend or organize professional meetings or conferences in Cuba pursuant to this section. OFAC is also amending § 515.564 to clarify that specific licenses may be issued on a case-by-case basis authorizing the travel-related transactions in § 515.560(c) and other transactions that are related to (i) professional research in Cuba that does not qualify for the general license under § 515.564(a) or (ii) professional meetings or conferences in Cuba that are not authorized under other travel-related authorizations and that relate to activities otherwise authorized pursuant to the Regulations. Finally, to reflect this change, OFAC is making technical and conforming edits in this section, as well as conforming edits in §§ 515.534, 515.542, 515.547, 515.560, 515.572, 515.577, and 515.591.

Public Performances, Clinics, Workshops, Athletic and Other Competitions, and Exhibitions

OFAC is removing the authorization in § 515.567(b) of the Regulations related to public performances, clinics, workshops, other athletic or non-athletic competitions, and exhibitions; however, OFAC may issue specific licenses, on a case-by-case basis, for transactions that are directly incident to participation in, or organization of, a public performance, clinic, workshop, athletic competition not covered by § 515.567(a), non-athletic competition, or exhibition in Cuba, subject to certain conditions. Upon this rule taking effect, the only athletic-related travel transactions authorized via general license in § 515.567 will be in connection with athletic competitions that qualify for the authorization in § 515.567(a).

Other Technical and Conforming Changes

Finally, OFAC is making a number of other technical and conforming changes as follows: (i) In § 515.101, OFAC is updating an outdated citation to the Trading With the Enemy Act; (ii) in §§ 515.209 and 515.582, OFAC is updating links to certain pages on the State Department's website that are out of date; (iii) in § 515.560, OFAC is removing the second occurrence of paragraph (e), which was previously included in error; and (iv) in § 515.570, OFAC is adjusting two cross-references to § 515.565 that previously referred to the wrong paragraphs of that section.

Public Participation

Because the amendment of the Regulations involves a foreign affairs function, the provisions of Executive Order 12866 and the Administrative Procedure Act (5 U.S.C. 553) requiring notice of proposed rulemaking, opportunity for public participation, and delay in effective date, as well as the provisions of Executive Order 13771, are inapplicable. Because no notice of proposed rulemaking is required for this rule, the Regulatory Flexibility Act (5 U.S.C. 601-12) does not apply.

Paperwork Reduction Act

The collections of information related to the Regulations are contained in 31 CFR part 501 (the “Reporting, Procedures and Penalties Regulations”) and § 515.572 of this part. Pursuant to the Paperwork Reduction Act of 1995 (44 U.S.C. 3507), those collections of information are covered by the Office of Management and Budget under control numbers 1505-0164, 1505-0167, and 1505-0168. An agency may not conduct or sponsor, and a person is not required to respond to, a collection of information unless the collection of information displays a valid control number.

List of Subjects in 31 CFR Part 515

Administrative practice and procedure, Alcohol, Athletics, Banks, Banking, Blocking of assets, Conferences, Cuba, Export, Financial transactions, Import, Remittances, Reporting and recordkeeping requirements, Tobacco, Travel restrictions.

For the reasons set forth in the preamble, the Department of the Treasury's Office of Foreign Assets Control amends 31 CFR part 515 as follows:

PART 515—CUBAN ASSETS CONTROL REGULATIONS

1. The authority citation for part 515 is revised to read as follows:

Authority: 22 U.S.C. 2370(a), 6001-6010, 7201-7211; 31 U.S.C. 321(b); 50 U.S.C. 4301-4341; Pub. L. 101-410, 104 Stat. 890 (28 U.S.C. 2461 note); 22 U.S.C. 6021-6091; Pub. L. 105-277, 112 Stat. 2681; Pub. L. 111-8, 123 Stat. 524; Pub. L. 111-117, 123 Stat. 3034; E.O. 9989, 13 FR 4891, 3 CFR, 1943-1948 Comp., p. 748; Proc. 3447, 27 FR 1085, 3 CFR, 1959-1963 Comp., p. 157; E.O. 12854, 58 FR 36587, 3 CFR, 1993 Comp., p. 614.

Subpart A—Relation of This Part to Other Laws and Regulations

§ 515.101 [Amended]

2. In § 515.101 paragraph (b), remove “50 U.S.C. App. 5(b), as amended” and add in its place “50 U.S.C. 4301-4341”.

Subpart B—Prohibitions

§ 515.209 [Amended]

3. In § 515.209, in the note to paragraph (a), remove “website: http://www.state.gov/e/eb/tfs/spi/cuba/cubarestrictedlist/index.htm” and add in its place “website: https://www.state.gov/cuba-sanctions/cuba-restricted-list/”.

4. Add § 515.210 to read as follows:

§ 515.210 Restrictions on lodging, paying for lodging, or making reservations at certain properties in Cuba.

(a) Except as otherwise authorized pursuant to this part, no person subject to U.S. jurisdiction may lodge, pay for lodging, or otherwise make any reservation for or on behalf of a third party to lodge, at any property in Cuba that the Secretary of State has identified as a property that is owned or controlled by the Cuban government, a prohibited official of the Government of Cuba, as defined in § 515.337, a prohibited member of the Cuban Communist Party, as defined in § 515.338, a close relative, as defined in § 515.339, of a prohibited official of the Government of Cuba, or a close relative of a prohibited member of the Cuban Communist Party. Such properties are identified on the State Department's Cuba Prohibited Accommodations List (CPA List). This prohibition does not apply to certain transactions set forth in paragraph (b) of this section.

Note 1 to paragraph (a): The names, addresses, or other identifying details, as relevant, of properties that the Secretary of State has identified as meeting the criteria set forth in this section are incorporated in the CPA List as published in the Federal Register. The CPA List is also accessible through the following page on the State Department's website: www.state.gov/cuba-sanctions/cuba-prohibited-accommodations.

(b) The prohibition in paragraph (a) of this section does not apply to lodging-related transactions initiated prior to the date that the property was added to the CPA List as published in the Federal Register.

Subpart D—Interpretations

5. Amend § 515.421 as follows:

a. In paragraph (a)(4), remove “or” at the end of the paragraph.

b. In paragraph (a)(5), remove the period at the end of the paragraph and add in its place “; or”.

c. Add paragraph (a)(6).

The addition reads as follows:

§ 515.421 Transactions ordinarily incident to a licensed transaction.

(a) * * *

(6) Lodging, paying for lodging, or making any reservation for or on behalf of a third party to lodge, at any property on the Cuba Prohibited Accommodations List to the extent prohibited by § 515.210, where the terms of the applicable general or specific license expressly exclude such a transaction.

* * * * *

Subpart E—Licenses, Authorizations, and Statements of Licensing Policy

6. Amend § 515.533 as follows:

a. Redesignate paragraph (d) as paragraph (e).

b. Add new paragraph (d).

The addition reads as follows:

§ 515.533 Exportations from the United States to Cuba; reexportations to Cuba; importation and servicing or repair of certain items previously exported or reexported to Cuba.

* * * * *

(d) Certain travel-related transactions restricted. Nothing in paragraph (c) of this section authorizes the lodging, paying for lodging, or making any reservation for or on behalf of a third party to lodge, at any property on the Cuba Prohibited Accommodations List to the extent prohibited by § 515.210.

* * * * *

§ 515.534 [Amended]

7. In Note to § 515.534, remove “, and § 515.564(a)(2) for a general license authorizing travel-related and other transactions incident to attending or organizing professional meetings in Cuba, which include professional meetings relating to the negotiation of contingent contracts authorized by this section”.

§ 515.542 [Amended]

8. In note 1 to § 515.542, remove the last sentence.

9. Amend § 515.545 as follows:

a. Redesignate paragraph (d) as paragraph (e).

b. Add new paragraph (d).

The addition reads as follows:

§ 515.545 Transactions related to information and informational materials.

* * * * *

(d) Certain travel-related transactions restricted. Nothing in paragraph (b) of this section authorizes the lodging, paying for lodging, or making any reservation for or on behalf of a third party to lodge, at any property on the Cuba Prohibited Accommodations List to the extent prohibited by § 515.210.

* * * * *

§ 515.547 [Amended]

10. In note 2 to paragraph (a), in the second sentence, remove “and professional meetings”.

11. Amend § 515.559 as follows:

a. Redesignate paragraph (e) as paragraph (f).

b. Add new paragraph (e).

The addition reads as follows:

§ 515.559 Certain export and import transactions by U.S.-owned or -controlled foreign firms.

* * * * *

(e) Certain travel-related transactions restricted. Nothing in paragraph (d) of this section authorizes the lodging, paying for lodging, or making any reservation for or on behalf of a third party to lodge, at any property on the Cuba Prohibited Accommodations List to the extent prohibited by § 515.210.

* * * * *

12. Amend § 515.560 as follows:

a. In paragraph (c)(3), add a new second sentence.

b. In paragraph (d), add “, and nothing in paragraph (c)(2) of this section authorizes the lodging, paying for lodging, or otherwise making any reservation for or on behalf of a third party to lodge, at any property on the Cuba Prohibited Accommodations List to the extent prohibited by § 515.210, in each case” after “§ 515.209”.

c. Remove the reserved paragraph (e).

The addition reads as follows:

§ 515.560 Travel-related transactions to, from, and within Cuba and by persons subject to U.S. jurisdiction.

* * * * *

(c) * * *

(3) * * * This paragraph does not apply to the importation into the United States of Cuban-origin alcohol or tobacco products. * * *

* * * * *

§ 515.561 [Amended]

13. Amend § 515.561, in paragraph (a) by adding “, or the lodging, paying for lodging, or making any reservation for or on behalf of a third party to lodge, at any property on the Cuba Prohibited Accommodations List to the extent prohibited by § 515.210” after “§ 515.209”.

14. Amend § 515.563 as follows:

a. Redesignate paragraph (c) as paragraph (d).

b. Add new paragraph (c).

The addition reads as follows:

§ 515.563 Journalistic activities in Cuba.

* * * * *

(c) Certain travel-related transactions restricted. Nothing in paragraph (a) of this section authorizes the lodging, paying for lodging, or making any reservation for or on behalf of a third party to lodge, at any property on the Cuba Prohibited Accommodations List to the extent prohibited by § 515.210.

* * * * *

15. Amend § 515.564 as follows:

a. Revise paragraph (a).

b. Redesignate paragraph (d) as paragraph (e).

c. Add new paragraph (d).

d. Revise newly redesignated paragraph (e).

The revisions and addition read as follows:

§ 515.564 Professional research and professional meetings in Cuba.

(a) General license for professional research. The travel-related transactions set forth in § 515.560(c) and such additional transactions as are directly incident to professional research are authorized, provided that:

(1) The purpose of the research directly relates to the traveler's profession, professional background, or area of expertise, including area of graduate-level full-time study; and

(2) The traveler's schedule of activities does not include free time or recreation in excess of that consistent with a full-time schedule of professional research.

Example to § 515.564(a): The making of a documentary film in Cuba would qualify for the general license in this section if it is a vehicle for presentation of the research conducted pursuant to this section.

Note 1 to paragraph (a): A person does not qualify as engaging in professional research merely because that person is a professional who plans to travel to Cuba.

Note 2 to paragraph (a): Each person relying on the general authorization in this paragraph must retain specific records related to the authorized travel transactions. See §§ 501.601 and 501.602 of this chapter for applicable recordkeeping and reporting requirements.

* * * * *

(d) Certain travel-related transactions restricted. Nothing in paragraph (a) of this section authorizes the lodging, paying for lodging, or making any reservation for or on behalf of a third party to lodge, at any property on the Cuba Prohibited Accommodations List to the extent prohibited by § 515.210.

(e) Specific licenses. Specific licenses may be issued on a case-by-case basis authorizing the travel-related transactions set forth in § 515.560(c) and such other transactions as are related to either: professional research in Cuba that does not qualify for the general license under paragraph (a) of this section, or professional meetings or conferences in Cuba that are not otherwise authorized pursuant to other travel-related authorizations and relate to activities otherwise authorized pursuant to this part.

16. Amend § 515.565 as follows:

a. Redesignate paragraphs (f) and (g) as paragraphs (g) and (h).

b. Add new paragraph (f).

The addition reads as follows:

§ 515.565 Educational activities.

* * * * *

(f) Certain travel-related transactions restricted. Nothing in paragraph (a), (b), (d), or (e) of this section authorizes the lodging, paying for lodging, or making any reservation for or on behalf of a third party to lodge, at any property on the Cuba Prohibited Accommodations List to the extent prohibited by § 515.210.

* * * * *

§ 515.566 [Amended]

17. Amend § 515.566, in paragraph (a) introductory text by adding “, or the lodging, paying for lodging, or making any reservation for or on behalf of a third party to lodge, at any property on the Cuba Prohibited Accommodations List to the extent prohibited by § 515.210” after “§ 515.209”.

18. Amend § 515.567 as follows:

a. Add notes 1 and 2 to paragraph (a).

b. Revise paragraph (b).

b. Remove examples 1 and 2 to § 515.567(a) and (b).

c. Remove notes 1 and 2 to § 515.567(a) and (b).

d. In paragraph (c), remove “or (b)”.

e. In paragraph (d), remove “or (b)”.

f. Revise paragraph (e).

The additions and revisions read as follows:

§ 515.567 Public performances, clinics, workshops, athletic and other competitions, and exhibitions.

(a) * * *

Note 1 to paragraph (a): Each person relying on the general license described in paragraph (a) must retain specific records related to the authorized travel transactions. See §§ 501.601 and 501.602 of this chapter for applicable recordkeeping and reporting requirements.

Note 2 to paragraph (a): Transactions incident to the organization of amateur and semi-professional international sports federation competitions described in paragraph (a) include marketing related to such events in Cuba.

(b) Public performances, clinics, workshops, other athletic or non-athletic competitions, and exhibitions. Specific licenses, including for multiple trips to Cuba over an extended period of time, may be issued on a case-by-case basis authorizing the travel-related transactions set forth in § 515.560(c) and such other transactions as are directly incident to participation in or organization of a public performance, clinic, workshop, athletic competition not covered by paragraph (a) of this section, non-athletic competition, or exhibition in Cuba by participants in or organizers of such activities, provided that the event is open for attendance, and in relevant situations, participation, by the Cuban public.

* * * * *

(e) Certain travel-related transactions restricted. Nothing in paragraph (a) of this section authorizes the lodging, paying for lodging, or making any reservation for or on behalf of a third party to lodge, at any property on the Cuba Prohibited Accommodations List to the extent prohibited by § 515.210.

19. In § 515.569, add a sentence to the end to read as follows:

§ 515.569 Foreign passengers' baggage.

* * * This authorization does not apply to the importation into the United States of Cuban-origin alcohol or tobacco products.

§ 515.570 [Amended]

20. Amend § 515.570, in paragraph (d), by removing “§ 515.565(d)” in both places it appears and adding in its place “§ 515.565(h)”.

21. Amend § 515.571 as follows:

a. In paragraph (a)(1), add a sentence to the end.

b. In paragraph (a)(3), remove “and” after “accompanied baggage”.

c. In paragraph (a)(4), remove the period and add in its place “; and”.

The addition reads as follows:

§ 515.571 Certain transactions incident to travel to, from, and within the United States by Cuban nationals.

(a) * * *

(1) * * * This paragraph (a)(1) does not apply to the importation into the United States of Cuban-origin alcohol or tobacco products.

* * * * *

§ 515.572 [Amended]

22. Amend § 515.572 as follows:

a. In paragraph (a)(1), add “, or the lodging, paying for lodging, or making any reservation for or on behalf of a third party to lodge, at any property on the Cuba Prohibited Accommodations List to the extent prohibited by § 515.210,” after “§ 515.209”.

b. Remove Note to § 515.572(a).

23. Amend § 515.574 as follows:

a. Redesignate paragraph (d) as paragraph (e).

b. Add new paragraph (d).

c. In Example 1 to § 515.574, add a new third sentence.

d. In Example 2 to § 515.574, add a new third sentence.

e. In Example 3 to § 515.574, add “, and will not lodge, or pay for lodging, at any property on the CPA List to the extent prohibited by § 515.210” after “(see § 515.209)”.

The additions read as follows:

§ 515.574 Support for the Cuban people.

* * * * *

(d) Certain travel-related transactions restricted. Nothing in paragraph (a) of this section authorizes the lodging, paying for lodging, or making any reservation for or on behalf of a third party to lodge, at any property on the Cuba Prohibited Accommodations List (CPA List) to the extent prohibited by § 515.210.

* * * * *

Example 1 to § 515.574: * * * The traveler will not lodge, or pay for lodging, at any property on the CPA List to the extent prohibited by § 515.210. * * *

Example 2 to § 515.574: * * * The travelers will not lodge, or pay for lodging, at any property on the CPA List to the extent prohibited by § 515.210. * * *

* * * * *

24. Amend § 515.575 as follows:

a. Redesignate paragraph (d) as paragraph (e).

b. Add new paragraph (d).

The addition reads as follows:

§ 515.575 Humanitarian projects.

* * * * *

(d) Certain travel-related transactions restricted. Nothing in paragraph (a) of this section authorizes the lodging, paying for lodging, or making any reservation for or on behalf of a third party to lodge, at any property on the Cuba Prohibited Accommodations List to the extent prohibited by § 515.210.

* * * * *

25. Amend § 515.576 as follows:

a. Redesignate paragraph (d) as paragraph (e).

b. Add new paragraph (d).

The addition reads as follows:

§ 515.576 Activities of private foundations or research or educational institutes.

* * * * *

(d) Certain travel-related transactions restricted. Nothing in paragraph (a) of this section authorizes the lodging, paying for lodging, or making any reservation for or on behalf of a third party to lodge, at any property on the Cuba Prohibited Accommodations List to the extent prohibited by § 515.210.

* * * * *

§ 515.577 [Amended]

26. Amend § 515.577 by removing paragraph (e) and redesignating paragraph (f) as paragraph (e).

§ 515.582 [Amended]

27. Amend § 515.582 by removing “http://www.state.gov/e/eb/tfs/spi/” and adding in its place “https://www.state.gov/the-state-departments-section-515-582-list/”.

28. Amend § 515.585, in paragraph (d), by adding a sentence at the end.”” after “personal use only.”.

§ 515.585 Certain transactions in third countries.

* * * * *

(d) * * * This paragraph does not apply to the importation into the United States of Cuban-origin alcohol or tobacco products.

* * * * *

§ 515.591 [Amended]

29. In Note 2 to § 515.591, remove “and professional meetings” after “professional research”.

Dated: September 21, 2020.
Andrea Gacki,
Director, Office of Foreign Assets Control.

[FR Doc. 2020-21084 Filed 9-23-20; 8:45 am]

BILLING CODE 4810-AL-P